DEPARTMENT OF THE INTERIOR

Fish and Wildlife Service

50 CFR Part 17

RIN 1018-AI51

Endangered and Threatened Wildlife and Plants; Listing of the Flat-Tailed Horned Lizard as Threatened

AGENCY: Fish and Wildlife Service, Interior.

ACTION: Proposed rule; reopening of comment period.

SUMMARY: We, the U.S. Fish and Wildlife Service (Service), announce the reopening of the public comment period for the proposed listing of the flat-tailed horned lizard (Phrynosoma mcallii) as a threatened species pursuant to the Endangered Species Act of 1973, as amended (Act). The purpose of reopening the public comment period is to allow for peer review of the proposed rule (58 FR 62624) and its subsequent withdrawal (62 FR 37852) according to our 1994 Interagency Cooperative Policy for Peer Review in Endangered Species Act Activities (59 FR 34270), additional public comment on the reinstatement of the proposed listing rule, and submission of any additional information that may assist us in making a final listing decision. Comments previously submitted need not be resubmitted as they have been incorporated into the public record and will be fully considered in the final listing determination.

DATES: The public comment period is reopened for a period of 15 days, and we will accept comments until October 9, 2002. Comments must be received by 5 p.m. on the closing date. Any comments that are received after the closing date may not be considered in the final decision on this action.

ADDRESSES: Comment Submission: If you wish to comment on the reinstated proposed rule or provide additional information concerning the status and distribution of the species, as well as information pertaining to threats to the species or its habitat, you may submit your comments and materials by any one of several methods:

(1) You may submit written comments and information to Field

Supervisor, Carlsbad Fish and Wildlife Office, U.S. Fish and Wildlife

Service, 2730 Loker Avenue West, Carlsbad, CA 92008.

(2) You may hand-deliver written comments to our Carlsbad Fish and Wildlife Office, U.S. Fish and Wildlife Service, 2730 Loker Avenue West, Carlsbad, CA.

(3) You may send comments by electronic mail (e-mail) to fthl@r1.fws.gov. Please submit comments in ASCII file format and avoid the use of special characters and encryption. Please include your name and return e-mail address in your e-mail message. Please note that the e-mail address will be closed out at the termination of the public comment period. If you do not receive confirmation from the system that we have received your e-mail message, contact us directly by calling our Carlsbad Fish and Wildlife Office at telephone number 760/431-9440.

Document Availability: Comments and materials received, as well as supporting documentation used in the preparation of the proposed rule and subsequent withdrawal, and additional information obtained since the time of the withdrawal that will be used for this final determination, are available for public inspection, by appointment, during normal business hours at the Carlsbad Fish and Wildlife Office.

FOR FURTHER INFORMATION CONTACT: Douglas Krofta, Branch Chief, Division of Listing, or Matt McDonald, Wildlife Biologist, Carlsbad Fish and Wildlife Office (see ADDRESSES; telephone 760/431-9440; facsimile 760/431-9624). Information is available in alternate formats upon request.

SUPPLEMENTARY INFORMATION: The flat-tailed horned lizard is a small, cryptically colored lizard that reaches a maximum adult body length (excluding the tail) of approximately 81 millimeters (3.2 inches). The lizard has a flattened body, short tail, and dagger-like head spines like other horned lizards. It is distinguished from other horned lizards in its range by a dark vertebral stripe, two slender elongated occipital spines, and the absence of external ear openings. The upper surface of the flat-tailed horned lizard is pale gray to light rusty brown. The underside is white and unmarked, with the exception of a prominent umbilical scar.

The flat-tailed horned lizard is endemic (restricted) to the Sonoran Desert in southern California and Arizona and northern Mexico. The species inhabits desert areas of southern Riverside, eastern San Diego, and Imperial Counties in California; southwestern Arizona; and adjacent regions of northwestern Sonora and northeastern Baja California Norte, Mexico. Within the United States, populations of the flat-tailed horned lizard are concentrated in portions of the Coachella Valley, Ocotillo Wells, Anza Borrego Desert, West Mesa, East Mesa, and the Yuma Desert in California; and the area between Yuma and the Gila Mountains in Arizona. The flat-tailed horned lizard occurs at elevations up to 520 meters (m) (1700 feet (ft)) above sea level, but most populations are below 250 m (820 ft) elevation.

According to Hodges (1997), approximately 51.2 percent of the historic range of the flat-tailed horned lizard habitat within the United States remains. This remaining habitat includes an estimated 503,500 hectares (ha) (1,244,00 acres (ac)) of habitat in the United States, of which approximately 56,800 ha (140,300 ac) occur in Arizona and 446,670 ha (1,103,800 ac) occur in California. Within this range, the lizard typically occupies sparsely vegetated, sandy desert flatlands with low plant species diversity, but it is also found in areas with small pebbles or desert pavement, mud hills, dunes, alkali flats, and low, rocky mountains.

Based on information obtained since the withdrawal of the proposed listing rule and the information documented in the proposed rule itself, threats to the flat-tailed horned lizard may include one or more of the following: commercial and residential development; agricultural development; off-highway vehicle activity; energy developments; military activities; introduction of nonnative plants; pesticide use; and border patrol activities along the United States-Mexico border.

In 1982, we first identified the flat-tailed horned lizard as a category 2 candidate species for listing under the Act (47 FR 58454). Service regulations defined category 2 candidate species as “taxa for which information in the possession of the Service indicated that proposing to list as endangered or threatened was possibly appropriate, but for which sufficient data on biological vulnerability and threats were not currently available to support proposed rules.” In 1989, we elevated the species to category 1 status (54 FR 554). Category 1 included species “for which the Service has on file sufficient information on biological vulnerability and threat(s) to support issuance of a proposed rule.” Subsequently, on November 29, 1993, we published a proposed rule to list the flat-tailed horned lizard as a threatened species pursuant to the Act (58 FR 62624).

On May 16, 1997, in response to a lawsuit filed by the Defenders of Wildlife to compel us to make a final listing determination on the flat-tailed horned lizard, the District Court in Arizona ordered us to issue a final listing decision within 60 days. A month after the District Court's order, several State and Federal agencies signed a Conservation Agreement (CA) implementing a recently completed range-wide management strategy to protect the flat-tailed horned lizard. Pursuant to the CA, cooperating parties agreed to take voluntary steps aimed at “reducing threats to the species, stabilizing the species” populations, and maintaining its ecosystem.”

On July 15, 1997, we issued a final decision to withdraw the proposed rule to list the flat-tailed horned lizard as a threatened species (62 FR 37852). The withdrawal was based on three factors: (1) Population trend data did not conclusively demonstrate significant population declines; (2) some of the threats to the flat-tailed horned lizard habitat had grown less serious since the proposed rule was issued; and (3) the belief that the recently approved “conservation agreement w[ould] ensure further reductions in threats.”

Six months following our withdrawal of the proposed listing rule, the Defenders of Wildlife filed a lawsuit challenging our decision. On June 16, 1999, the District Court for the Southern District of California granted summary judgement in our favor upholding our decision not to list the flat-tailed horned lizard. However, on July 31, 2001, the Ninth Circuit Court of Appeals reversed the lower court's ruling and directed the District Court to remand the matter back to us for further consideration in accordance with the legal standards outlined in its opinion. On October 24, 2001, the District Court ordered us to reinstate the previously effective proposed listing rule within 60 calendar days and, thereafter, commence a 12-month statutory time schedule for a final listing decision. On December 26, 2001, we published a notice announcing the reinstatement of the 1993 proposed listing of the flat-tailed horned lizard as threatened and the opening of a 120-day public comment period on the reinstated proposed rule (66 FR 66384). On May 30, 2002, we published a notice announcing the reopening of the public comment period to allow for the submission of additional public comment and information to assist us in making a final listing determination (67 FR 37752).

This notice announces the reopening of the public comment period on this reinstated rulemaking for 15 days to allow for peer review of the proposed rule (58 FR 62624) and its subsequent withdrawal (62 FR 37852) according to our Peer Review Policy (59 FR 34270), accept public comment on the reinstated proposed rule, and collect updated information concerning the species ecology and distribution, threats, conservation/management actions, and any additional available information to assist us in making a final listing determination based on the best scientific and commercial data available.

We are specifically seeking information about the flat-tailed horned lizard and its habitat concerning: (1) Threats to the species as a whole or to local populations and its habitat; (2) the size, number, and distribution of known populations; (3) sufficiency of current conservation/management and/or regulatory mechanisms for the flat-tailed horned lizard and its habitat; and (4) the conservation value of different populations across the range of the species.

Author

The primary author of this notice is Douglas Krofta, Carlsbad Fish and Wildlife Office (see ADDRESSES).

Authority: The authority for this action is the Endangered Species Act of 1973 (16 U.S.C. 1531 et seq.).

Dated: September 3, 2002.
Marshall P. Jones, Jr.,
Acting Director, Fish and Wildlife Service.

[FR Doc. 02-24025 Filed 9-23-02; 8:45 am]

BILLING CODE 4310-55-P